NUCLEAR REGULATORY COMMISSION

10 CFR Part 50

[NRC-2009-0359]

RIN 3150-AI72

Approval of American Society of Mechanical Engineers' Code Cases; Technical Corrections

AGENCY: Nuclear Regulatory Commission.

ACTION: Final rule.

SUMMARY: The U.S. Nuclear Regulatory Commission (NRC) is amending its regulations to make technical corrections, including adding three inadvertently omitted addenda to Section XI, “Rules for Inservice Inspection of Nuclear Reactor Coolant Systems,” of the American Society of Mechanical Engineers (ASME) Boiler and Pressure Vessel (B&PV) Code to the list of documents approved for incorporation by reference; and correcting a footnote number. This final rule is necessary to inform the public of these non-substantive changes to the NRC's regulations.

DATES: This rule is effective December 11, 2014. The incorporation by reference of the publications listed in this rule was previously approved by the Director of the Federal Register.

ADDRESSES: Please refer to Docket ID NRC-2009-0359 when contacting the NRC about the availability of information for this action. You may obtain publicly-available information related to this action by any of the following methods:

• Federal Rulemaking Web Site: Go to http://www.regulations.gov and search for Docket ID NRC-2009-0359. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Cindy Bladey, Office of Administration, U.S. Nuclear Regulatory Commission, Washington DC 20555-0001; telephone: 301-287-0949, email: Cindy.Bladey@nrc.gov.

SUPPLEMENTARY INFORMATION:

I. Introduction

The NRC is amending its regulations in § 50.55a of Title 10 of the Code of Federal Regulations (10 CFR) to make technical corrections. These changes include adding three inadvertently omitted addenda to Section XI of the ASME B&PV Code to the list of documents approved for incorporation by reference, and correcting a footnote number.

This final rule is necessary to inform the public of these non-substantive changes to the NRC's regulations.

II. Summary of Changes

10 CFR Part 50

Insert Missing Addenda. In § 50.55a(a)(1)(ii)(B), three addenda to Section XI of the ASME B&PV Code that were previously approved for incorporation by reference were inadvertently omitted in the proposed rule and final rule published on November 5, 2014 (79 FR 65776). Historically, the NRC's regulations did not list all the documents approved for incorporation by reference but the November 5, 2014, final rule added all the documents to bring the NRC's requirements into compliance with the Office of the Federal Register's (OFR) revised guidelines for incorporating by reference consensus standards. The three missing addenda, “1975 Winter Addenda,” “1976 Summer Addenda,” and “1976 Winter Addenda,” are added to § 50.55a(a)(1)(ii)(B).

Correct Footnote Number. In § 50.55a(e)(1), footnote “9” is renumbered as footnote “7.”

III. Rulemaking Procedure

Under the Administrative Procedure Act (5 U.S.C 553(b)), an agency may waive the normal notice and comments requirements if it finds, for good cause, that they are impracticable, unnecessary, or contrary to the public interest. As authorized by 5 U.S.C. 553(b)(3)(B), the NRC finds good cause to waive notice and opportunity for comment on the amendments, because notice and opportunity for comment are unnecessary. The NRC also finds good cause to make this final rule immediately effective because these amendments do not require action by any person or entity regulated by the NRC. The amendments identify three addenda to Section XI of the ASME B&PV Code which the Office of the Federal Register (OFR) has previously approved for incorporation by reference. In the November 5, 2014, final rule, the NRC inadvertently omitted these three addenda in its list of ASME Code Editions and Addenda approved by the OFR for incorporation by reference. The amendments also correct a footnote number. The final rule does not change the substantive responsibilities of any person or entity regulated by the NRC, and are of a minor and administrative nature which corrects an NRC oversight in the November 5, 2014 final rule.

IV. Environmental Impact: Categorical Exclusion

The NRC has determined that this final rule is the type of action described in categorical exclusion 10 CFR 51.22(c)(2), which excludes from a major action rules that are corrective, minor, or nonpolicy in nature and do not substantially modify existing regulations. Therefore, neither an environmental impact statement nor an environmental assessment has been prepared for this rule.

V. Paperwork Reduction Act Statement

This final rule does not contain information collection requirements and, therefore, is not subject to the Paperwork Reduction Act of 1995 (44 U.S.C. 3501 et seq.).

Public Protection Notification

The NRC may not conduct or sponsor, and a person is not required to respond to, a request for information or an information collection requirement unless the requesting document displays a currently valid Office of Management and Budget (OMB) control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the amendments in this final rule do not constitute backfitting and are not inconsistent with any of the issue finality provisions in 10 CFR part 52. The amendments are non-substantive in nature, and include adding three inadvertently omitted addenda to Section XI of the ASME B&PV Code to the list of documents approved for incorporation by reference and correcting a footnote number. They impose no new requirements and make no substantive changes to the regulations. The amendments do not involve any provisions that would impose backfits as defined in 10 CFR part 50, or would be inconsistent with the issue finality provisions in 10 CFR part 52. For these reasons, the issuance of the rule in final form would not constitute backfitting or represent an inconsistency with any of the issue finality provisions in 10 CFR part 52. Therefore, the NRC has not prepared any additional documentation for this final rule addressing backfitting or issue finality.

VIII. Congressional Review Act

In accordance with the Congressional Review Act of 1996 (5 U.S.C. 801-808), the NRC has determined that this action is not a major rule and has verified this determination with the Office of Information and Regulatory Affairs, Office of Management and Budget.

List of Subjects in 10 CFR Part 50

Antitrust, Classified information, Criminal penalties, Fire protection, Incorporation by reference, Intergovernmental relations, Nuclear power plants and reactors, Radiation protection, Reactor siting criteria, Reporting and recordkeeping requirements.

For the reasons set out in the preamble and under the authority of the Atomic Energy Act of 1954, as amended; the Energy Reorganization Act of 1974, as amended; and 5 U.S.C. 552 and 553, the NRC is adopting the following amendments to 10 CFR part 50.

PART 50—DOMESTIC LICENSING OF PRODUCTION AND UTILIZATION FACILITIES

1. The authority citation for part 50 continues to read as follows:

Authority: Atomic Energy Act secs. 102, 103, 104, 105, 147, 149, 161, 181, 182, 183, 186, 189, 223, 234 (42 U.S.C. 2132, 2133, 2134, 2135, 2167, 2169, 2201, 2231, 2232, 2233, 2236, 2239, 2273, 2282); Energy Reorganization Act secs. 201, 202, 206 (42 U.S.C. 5841, 5842, 5846); Nuclear Waste Policy Act sec. 306 (42 U.S.C. 10226); Government Paperwork Elimination Act sec. 1704 (44 U.S.C. 3504 note); Energy Policy Act of 2005, Pub. L. 109-58, 119 Stat. 194 (2005). Section 50.7 also issued under Pub. L. 95-601, sec. 10, as amended by Pub. L. 102-486, sec. 2902 (42 U.S.C. 5851). Section 50.10 also issued under Atomic Energy Act secs. 101, 185 (42 U.S.C. 2131, 2235); National Environmental Protection Act sec. 102 (42 U.S.C. 4332). Sections 50.13, 50.54(d), and 50.103 also issued under Atomic Energy Act sec. 108 (42 U.S.C. 2138). Sections 50.23, 50.35, 50.55, and 50.56 also issued under Atomic Energy Act sec. 185 (42 U.S.C. 2235). Appendix Q also issued under National Environmental Protection Act sec. 102 (42 U.S.C. 4332). Sections 50.34 and 50.54 also issued under sec. 204 (42 U.S.C. 5844). Sections 50.58, 50.91, and 50.92 also issued under Pub. L. 97-415 (42 U.S.C. 2239). Section 50.78 also issued under Atomic Energy Act sec. 122 (42 U.S.C. 2152). Sections 50.80-50.81 also issued under Atomic Energy Act sec. 184 (42 U.S.C. 2234).

2. In § 50.55a, add paragraphs (a)(1)(ii)(B)(5) through (7) to read as follows:

§ 50.55a Codes and standards.

(a) * * *

(1) * * *

(ii) * * *

(B) * * *

(5) 1975 Winter Addenda,

(6) 1976 Summer Addenda, and

(7) 1976 Winter Addenda.

* * * * *

§ 50.55a [Amended]

3. In § 50.55a, paragraph (e)(1), in the second sentence, remove footnote “9” and add, in its place, footnote “7”.

Dated at Rockville, Maryland, this 8th day of December 2014.
For the Nuclear Regulatory Commission.
Cindy Bladey,
Chief, Rules, Announcements, and Directives Branch, Division of Administrative Services, Office of Administration.

[FR Doc. 2014-29037 Filed 12-10-14; 8:45 am]

BILLING CODE 7590-01-P